NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 27, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Energy, Bonneville Power Administration, (N1-305-05-2, 8 items, 7 temporary items). Records relating to fish and wildlife activities. Included are records related to implementation of subbasin planning, provincial review and decision letters, research monitoring and evaluation, fish and wildlife projects, stream flows, mitigation and planning. Proposed for permanent retention are wildlife agreements including loss assessments and mitigation actions. This schedule authorizes the agency to apply the proposed disposition instructions to any recordkeeping medium.

2. Department of Energy, Office of Counterintelligence (N1-434-05-2, 19 items, 18 temporary items). Records relating to protecting the agency from unauthorized access to information related to nuclear related activities, terrorist threats, or other harmful activities. Included are records related to credentials, intelligence community liaisons, assessments, investigations, polygraphs, clearances, site inspections, training and evaluations. Proposed for permanent retention are program policy and procedures, correspondence, historical counterintelligence procedures and foreign intelligence. This schedule authorizes the agency to apply the proposed disposition instructions to any recordkeeping medium.

3. Department of the Interior, U.S. Geological Survey (N1-57-06-1, 14 items, 13 temporary items). Water resources discipline scientific records, including technical memoranda that provide guidance on the collection, processing, interpretation, and publication of scientific data, primary computations of water level and water quality not stored in the National Water Information System, and meter calibration records. Proposed for permanent retention are Delaware River Master historical records.

4. Department of the Interior, U.S. Geological Survey, (N1-57-07-2, 9 items, 7 temporary items). Mission-specific records of the Biological Resources Discipline, including science project case files, datasets, associated and supporting technical information, and proposed projects. Proposed for permanent retention are project case files and datasets that meet one or more criteria as scientifically influential or significant. This schedule authorizes the agency to apply the proposed disposition instructions to any recordkeeping medium.

5. Department of Transportation, Federal Motor Carrier Safety Administration (N1-557-05-1, 4 items, 2 temporary items). Records related to high level agency activities. Included are non-official reference files and extra copies of outgoing correspondence. Proposed for permanent retention are files of high level officials, including reports, policy, program planning and management files, speeches, calendars, and conference participation records.

6. Department of the Treasury, Financial Management Service (N1-425-07-1, 3 items, 3 temporary items). The schedule deviates from the General Records Schedule and increases the retention period for electronic information system security records and adds a new item to cover all other copies of these records within the agency.

7. Department of the Treasury, Financial Management Service (N1-425-07-2, 1 item, 1 temporary item). Records of the Reclamation Branch relating to check reclamation from financial institutions. This schedule authorizes the agency to apply the proposed disposition instructions to any recordkeeping medium.

8. Department of the Treasury, Internal Revenue Service (N1-58-07-4, 8 items, 8 temporary items). Inputs, master files, outputs, and documentation of the Dependent Database, which contains taxpayer return information and child custody information used to determine the validity of dependent and Earned Income Tax Credit claims.

9. Environmental Protection Agency, Agency-wide (N1-412-07-35, 3 items, 3 temporary items). This schedule authorizes the agency to apply the existing disposition instructions to a number of records series regardless of the recordkeeping medium. The records series include pesticides facilities files, pesticides imports files and pesticide producing establishments reports. Paper recordkeeping copies of these files were previously approved for disposal.

10. Environmental Protection Agency, Agency-wide (N1-412-07-36, 4 items, 4 temporary items). This schedule authorizes the agency to apply the existing disposition instructions to a number of records series regardless of the recordkeeping medium. The records series include the administrative documents relating to issuing permits including permit application, draft permit or notice of intent to deny, statement of basis and documentation, environmental impact statement, comments received, public hearing transcripts and related documentation, and the final permit. Paper recordkeeping copies of these files were previously approved for disposal.

11. Environmental Protection Agency, Agency-wide (N1-412-07-37, 5 items, 5 temporary items). Records from the Correspondence Management System include software, inputs, outputs and reports, and system documentation. This schedule authorizes the agency to apply the disposition instructions to any recordkeeping medium.

12. Environmental Protection Agency, Agency-wide (N1-412-07-39, 6 items, 5 temporary items). This schedule authorizes the agency to apply the existing disposition instructions to pesticides registration records, regardless of the recordkeeping medium. Records include Registration Jackets, Experimental Use Product Jackets, Pesticide Tolerance Petition Jackets, both Established Limited or Temporary Tolerances and Inactive Tolerances, and 24c applications by state. Information includes applications, enforcement actions, chemical reviews, product names, issue dates, and pesticide forms and types. Paper and electronic copies of these files were previously approved for disposal. Proposed for permanent retention are Pesticide Tolerance Petition Jackets-Established Tolerances.

13. Environmental Protection Agency, Agency-wide (N1-412-07-43, 2 items, 2 temporary items). This schedule authorizes the agency to apply the existing disposition instructions to test method evaluation records, regardless of the recordkeeping medium. The records include methods reports, methods and essential laboratory raw data such as chromatograms, and original test method data submitted by companies. Also included are non-essential supporting documentation such as duplicate copies of submissions. Paper recordkeeping copies of these files were previously approved for disposal.

14. Environmental Protection Agency, Agency-wide (N1-412-07-44, 4 items, 3 temporary items). This schedule authorizes the agency to apply the existing disposition instructions to pesticide usage survey data and documentation, regardless of the recordkeeping medium. The records include incomplete data and documentation for the surveys. Paper recordkeeping copies of these files were previously approved for disposal. Proposed for permanent retention are the Final Reports of the Pesticide Usage Survey Data and Documentation.

15. Environmental Protection Agency, Agency-wide (N1-412-07-45, 3 items, 3 temporary items). This schedule authorizes the agency to apply the existing disposition instructions to pesticide registration maintenance fee records, regardless of the recordkeeping medium. The records include certified mailing green card receipts, telephone logs, and fee response database. Paper recordkeeping copies of these files were previously approved for disposal.

16. Environmental Protection Agency, Agency-wide (N1-412-07-47, 2 items, 2 temporary items). This schedule authorizes the agency to apply the existing disposition instructions to pesticide produce label system records, regardless of the recordkeeping medium. The records include collections of registered pesticide product labels submitted by registrants and accepted by the agency. Paper and electronic copies of these files were previously approved for disposal.

17. Equal Employment Opportunity Commission, Revolving Fund Program (N1-403-07-1, 8 items, 8 temporary items). Records documenting administrative aspects of a specialized training program relating to the laws administered by the agency, including financial management activities, course registration activities, program promotional activities, and program reporting activities.

18. U.S. International Trade Commission (N1-81-06-1, 15 items, 10 temporary items). Records of the Office of General Counsel and Inspector General, including litigation case files, copies of General Counsel memoranda, other administrative documents, miscellaneous files, and investigative files, grand jury files, and audit and inspection files without historical value. Proposed for permanent retention are grand jury files with historical value, final audit reports, final policy and procedure files, and authoritative agency documents and files.

19. The Utah Reclamation Mitigation and Conservation Commission (N1-220-07-2, 56 items, 26 temporary). Records include subject files, Federal Register rulemaking files, audit files, internal delegations of authority files, identification and credential cards, wildlife resources files, hazardous waste management files, appropriation and funding files, collection procedures files, taxation files, and professional societies files. Proposed for permanent retention are policy files, environmental compliance files, litigation, land acquisition files, public relations files, celebrations and dedications files, audio visual files, publications, technical reports, commission meeting files, and Native American projects files.

Dated: March 22, 2007.
Michael J. Kurtz,
Assistant Archivist for Records Services—Washington, DC.

[FR Doc. E7-5682 Filed 3-27-07; 8:45 am]

BILLING CODE 7515-01-P